DEPARTMENT OF STATE

[Public Notice 6945]

Notice of Meeting of the Cultural Property Advisory Committee

In accordance with the provisions of the Convention on Cultural Property Implementation Act (19 U.S.C. 2601 et seq.) (the Act) there will be a meeting of the Cultural Property Advisory Committee on Thursday, May 6, 2010, from 9 a.m. to approximately 5 p.m., and on Friday, May 7, 2010, from 9:00 a.m. to approximately 3 p.m., at the Department of State, Annex 5, 2200 C Street, NW., Washington, DC. During its meeting the Committee will review a proposal to extend the “Memorandum of Understanding Between the Government of the United States of America and the Government of the Republic of Italy Concerning the Imposition of Import Restrictions on Categories of Archaeological Material Representing the Pre-Classical, Classical and Imperial Roman Periods of Italy” signed in Washington, DC on January 19, 2001 and amended and extended in 2006 through an exchange of diplomatic notes. The purpose of this review is for the Committee to make findings and a recommendation regarding the proposal to extend this Memorandum of Understanding.

The Committee's responsibilities are carried out in accordance with provisions of the Act. The U.S.—Italy Memorandum of Understanding, as amended and extended, the Designated List of restricted categories, the text of the Act and related information may be found at http://exchanges.state.gov/heritage/culprop.

Exercising delegated authority from the President and the Secretary of State, I have determined that portions of the meeting on May 6 and 7 will be closed pursuant to 5 U.S.C. 552b(c)(9)(B) and 19 U.S.C. 2605(h), because the disclosure of matters involved in the Committee's proceedings would compromise the Government's negotiation objectives or bargaining positions on the negotiations of this Memorandum of Understanding. However, on May 6, the Committee will hold an open session, 9:30 a.m. to approximately 11:30 a.m., to receive oral public comment on the proposal to extend the Memorandum of Understanding. Persons wishing to attend this open session should notify the Cultural Heritage Center of the Department of State at (202) 632-6301 by Thursday, April 22, 2010, 5 p.m. (EDT) to arrange for admission, as seating is extremely limited.

Those who wish to make oral presentations should request to be scheduled and submit a written text of the oral comments by Thursday, April 22, 2010, to allow time for distribution of these comments to Committee members for their review prior to the meeting. Oral comments will be limited to five minutes each or less to allow time for questions from members of the Committee and must specifically address the determinations under section 303(a)(1) of the Act, 19 U.S.C. 2602(a)(1), pursuant to which the Committee must make findings. This citation for the determinations can be found at the Web site noted above. The Committee also invites written comments and asks that they be submitted no later than April 22, 2010. All written materials, including the written texts of oral statements, should be faxed to (202) 632-6300, if 5 pages or less. Written comments greater than five pages in length must be duplicated (20 copies) and mailed to Cultural Heritage Center, SA-5, Fifth Floor, Department of State, Washington, DC 20522-0505. Express mail is recommended for timely delivery.

Dated: March 29, 2010.
Judith A. McHale,
Under Secretary, Public Diplomacy and Public Affairs, Department of State.

[FR Doc. 2010-7898 Filed 4-6-10; 8:45 am]

BILLING CODE 4710-05-P